ENVIRONMENTAL PROTECTION AGENCY

[FRL-9965-94-Region 6]

Public Water System Supervision Program Revision for the State of Louisiana

AGENCY: Environmental Protection Agency (EPA).

ACTION: Notice of tentative approval.

SUMMARY: Notice is hereby given that the State of Louisiana is revising its approved Public Water System Supervision (PWSS) program. Louisiana has adopted the Revised Total Coliform Rule (RTCR) and Groundwater Rule (GWR) by reference under LAC Title 51 Part XII—Water Supplies of the Louisiana State Sanitary Code. EPA has determined that the RTCR and GWR primacy applications submitted by Louisiana is no less stringent than the corresponding federal regulations. Therefore, EPA intends to approve this PWSS program revision package.

DATES: All interested parties may request a public hearing. A request for a public hearing must be submitted by September 8, 2017 to the Regional Administrator at the EPA Region 6 address shown below. Frivolous or insubstantial requests for a hearing may be denied by the Regional Administrator. However, if a substantial request for a public hearing is made by September 8, 2017, a public hearing will be held. If no timely and appropriate request for a hearing is received and the Regional Administrator does not elect to hold a hearing on his own motion, this determination shall become final and effective on September 8, 2017. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8:00 a.m. and 4:30 p.m., Monday through Friday, at the following offices: Louisiana Department of Health, Engineering Services, Bienville Building, 628 N. 4th Street, Baton Rouge, LA 70821-3214; and United States Environmental Protection Agency, Region 6, Drinking Water Section (6WQ-SD), 1445 Ross Avenue, Suite 1200, Dallas, Texas 75202. Copies of the documents which explain the rule can also be obtained at EPA's Web site at https://www.federalregister.gov/articles/2013/02/13/2012-31205/national-primary-drinking-water-regulations-revisions-to-the-total-coliform-rule, https://www.federalregister.gov/articles/2014/02/26/2014-04173/national-primary-drinking-water-regulations-minor-corrections-to-the-revisions-to-the-total-coliform, and https://www.federalregister.gov/documents/2006/11/08/06-8763/national-primary-drinking-water-regulations-ground-water-rule or by writing or calling Ms. Evelyn Rosborough at the address below.

FOR FURTHER INFORMATION CONTACT: For further information contact Evelyn Rosborough, Environmental Protection Specialist, Water Quality Protection Division, U.S. Environmental Protection Agency Region 6, 1445 Ross Ave., Dallas, TX 75202-2733, telephone (214) 665-7515, facsimile (214) 665-6490, or email: rosborough.evelyn@epa.gov.

SUPPLEMENTARY INFORMATION: Authority: Section 1413 of the Safe Drinking Water Act, as amended (1996), and 40 CFR part 142 of the National Primary Drinking Water Regulations.

Dated: July 27, 2017.
Samuel J. Coleman,
Acting Regional Administrator, Region 6.

[FR Doc. 2017-16817 Filed 8-8-17; 8:45 am]

BILLING CODE 6560-50-P